DEPARTMENT OF TRANSPORTATION

Federal Highway Administration

Notice of Federal Agency Actions on Proposed Transportation Projects in Ohio

AGENCY: Federal Highway Administration (FHWA), DOT.

ACTION: Notice of Limitation on Claims for Judicial Review of Actions by FHWA and Other Federal Agencies.

SUMMARY: This notice announces actions taken by the FHWA and other Federal Agencies that are final within the meaning of 23 U.S.C. 139(l)(1). The actions relate to proposed highway and transit projects within the area known as the Eastern Corridor, which is a 165 square mile area in the Cincinnati metropolitan area that extends from the Cincinnati Central Business District and riverfront redevelopment area in Hamilton County, easterly to east of the I-275 outerbelt corridor in Clermont County, near the communities of Milford, Batavia, and Amelia, in the State of Ohio. The Federal actions, taken as a result of a tiered environmental review process under the National Environmental Policy Act, 42 U.S.C. 4321-4351 (NEPA), and implementing regulations on tiering, 40 CFR 1502.20, 40 CFR 1508.28, and 23 CFR Part 771, determined certain issues relating to the proposed projects. Those Tier 1 decisions will be used by Federal agencies in subsequent proceedings, including decisions whether to grant licenses, permits, and approvals for highway and transit projects. Tier 1 decisions also may be relied upon by State and local agencies in proceedings on the proposed projects.

DATES: By this notice, the FHWA is advising the public that it has made decisions that are subject to 23 U.S.C. 139(l)(1) and are final within the meaning of that law. A claim seeking judicial review of the Tier 1 Federal agency decisions on the proposed highway and transit projects will be barred unless the claim is filed on or before January 30, 2007. If the Federal law that authorizes judicial review of a claim provides a time period of less than 180 days for filing such claim, then that shorter time period still applies.

FOR FURTHER INFORMATION CONTACT: For FHWA: Mr. Mark L. Vonder Embse, PE., Senior Transportation Engineer, Federal Highway Administration, 200 North High Street, Columbus, Ohio, 43215; e-mail: mark.vonderembse@fhwa.dot.gov; telephone: (614) 280-6854; FHWA Ohio Division Office's normal business hours are 8 a.m. to 4:30 p.m. (eastern time). You also may contact Mr. Tim Hill, Ohio Department of Transportation, 1980 West Broad Street, Columbus, OH 43223; telephone: (614) 644-0377.

SUPPLEMENTARY INFORMATION: Notice is hereby given that the FHWA has issued a Tier 1 Record of Decision (ROD) in connection with proposed highway and transit projects within the Eastern Corridor of the City of Cincinnati in the State of Ohio. Decisions in the Tier 1 ROD include, but are not limited to, the following:

1. Purpose and need for the projects, including the need for actions to increase highway capacity, reduce congestion and delay, improve safety and increase transportation connectivity in the region.

2. Reasonable alternatives that will be carried forward for further evaluation in the Tier 2 proceedings.

3. Alternatives that have been eliminated from further consideration and study, including but not limited to the no-build alternative; the Wasson Light Rail Transit alternative; the Beechmont Levee Corridor alternative; and individual or combined measures involving high occupancy vehicle lanes, bus rapid transit, ferry boats, and expanded Ohio River crossings on I-275 and I-471.

4. The Little Miami River will be clear spanned, thereby precluding the proposed highway and transit crossing from being designated as a water resources project within the meaning of Section 7 of the Wild and Scenic Rivers Act, 16 U.S.C. 1271-1287.

The Tier 1 actions by the Federal agencies, and the laws under which such actions were taken, are described in the Draft Environmental Impact Statement (DEIS), approved November 8, 2004, the FEIS approved September 30, 2005, the ROD approved June 2, 2006, and in other documents in the FHWA project records. The DEIS, FEIS, ROD and other documents in the FHWA project file are available by contacting the FHWA or the Ohio Department of Transportation at the addresses provided above. The DEIS, FEIS, and ROD also are available online at http://www.easterncorridor.org/default.asp.

The scope and purpose of the Tier 1 FEIS are described in Sections 1.1 and 1.3 of the FEIS and referenced sections of the DEIS. The DEIS, FEIS, and ROD describe the issues that will be addressed in Tier 2, including further refinement and evaluation of the alternatives advanced to Tier 2 and identification of preferred alternatives for the various parts of the multimodal plan.

This notice applies to all Federal agency Tier 1 decisions that are final within the meaning of 23 U.S.C. 139(l)(1) as of the issuance date of this notice and all laws under which such actions were taken, including but not limited to:

1. General: National Environmental Policy Act (NEPA), 42 U.S.C. 4321-4351; Federal-Aid Highway Act, 23 U.S.C. 109 and 23 U.S.C. 128.

2. Air: Clean Air Act, 42 U.S.C. 7401-7671(q).

3. Land: Section 4(f) of the Department of Transportation Act of 1966, 49 U.S.C. 303 and 23 U.S.C. 138.

4. Wetlands and Water Resources: Safe Drinking Water Act, 42 U.S.C. 300(f)-300(j)(6); Wild and Scenic Rivers Act, 16 U.S.C. 1271-1287; Wetlands Mitigation, 23 U.S.C. 103(b)(6)(m), 133(b)(11).

5. Historic and Cultural Resources: Section 106 of the National Historic Preservation Act of 1966, as amended, 16 U.S.C. 470(f) et seq.

6. Executive Orders: E.O. 11990 Protection of Wetlands; E.O. 11988 Floodplain Management; E.O. 12898, Federal Actions to Address Environmental Justice in Minority Populations and Low Income Populations; E.O. 11593 Protection and Enhancement of Cultural Resources; E.O. 11514 Protection and Enhancement of Environmental Quality.

(Catalog of Federal Domestic Assistance Program Number 20.205, Highway Planning and Construction. The regulations implementing Executive Order 12372 regarding intergovernmental consultation on Federal programs and activities apply to this program.)

Authority: 23 U.S.C. 139(l)(1).

Issued on: July 26, 2006.
Dennis A. Decker,
Division Administrator, Columbus, Ohio.

[FR Doc. E6-12563 Filed 8-2-06; 8:45 am]

BILLING CODE 4910-22-P